NATIONAL SCIENCE FOUNDATION

Notice of Permit Applications Received Under the Antarctic Conservation Act of 1978

AGENCY: National Science Foundation.

ACTION: Notice of permit applications received.

SUMMARY: The National Science Foundation (NSF) is required to publish a notice of permit applications received to conduct activities regulated under the Antarctic Conservation Act of 1978. NSF has published regulations under the Antarctic Conservation Act in the Code of Federal Regulations. This is the required notice of permit applications received.

DATES: Interested parties are invited to submit written data, comments, or views with respect to this permit application by December 27, 2021. This application may be inspected by interested parties at the Permit Office, address below.

ADDRESSES: Comments should be addressed to Permit Office, Office of Polar Programs, National Science Foundation, 2415 Eisenhower Avenue, Alexandria, Virginia 22314 or ACApermits@nsf.gov.

FOR FURTHER INFORMATION CONTACT: Polly Penhale, ACA Permit Officer, at the above address, 703-292-8030.

SUPPLEMENTARY INFORMATION: The National Science Foundation, as directed by the Antarctic Conservation Act of 1978 (Pub. L. 95-541, 45 CFR 671), as amended by the Antarctic Science, Tourism and Conservation Act of 1996, has developed regulations for the establishment of a permit system for various activities in Antarctica and designation of certain animals and certain geographic areas as requiring special protection. The regulations establish such a permit system to designate Antarctic Specially Protected Areas.

Application Details

Permit Application: 2022025

1. Applicant: Dr. Kim Bernard, College of Earth, Ocean and Atmospheric Sciences, Oregon State University.

Activity for Which Permit Is Requested: Introduce Non-Indigenous Species into Antarctica, Export From USA. The applicant proposes uses American-grown cultures of Antarctic diatom species Corethron Hystrix to support research activities at Palmer Station, Antarctica. The diatoms will be added to two large circular aquarium tanks as a food source for juvenile Antarctic krill. During feeding, flow-through of seawater in tanks will be closed off to prevent outflow of diatoms. Additionally, outflow pipes will be covered in mesh screens fine enough to trap Corethron Hystrix and prevent release. These screens will be sanitized regularly, and outflow of seawater will be regularly sampled and tested for presence of diatoms prior to discharge to the natural environment.

Location: Palmer Station, Antarctica.

Dates of Permitted Activities: April 1, 2022—October 01, 2022.

Erika N. Davis,
Program Specialist, Office of Polar Programs.

[FR Doc. 2021-25731 Filed 11-24-21; 8:45 am]

BILLING CODE 7555-01-P